Title 3—

The President

Proclamation 9728 of April 20, 2018

National Park Week, 2018

By the President of the United States of America

A Proclamation

The magnificent coastlines, woodlands, plains, mountains, deserts, and historical and cultural monuments of our national parks inspire and exhilarate us. During National Park Week, we celebrate America's extraordinary landscapes and landmarks as we launch a new era of preservation to protect them for future generations.

Our national parks demonstrate the power of nature and tell the scenic story of America. Last year, more than 330 million people visited the 417 areas included in the national park system. From the steep red cliffs and heavenly valleys of Zion to the towering majesty of the Statue of Liberty, America's national parks have something for everyone. Families bond over campfires; adventurers test their courage ascending intense rock formations; veterans find serenity in healing vistas; students watch history come to life at famous battle sites; and recreationists enjoy some of the most beautiful settings on earth.

America's special places bring out the freedom-loving, pioneering spirit of America, and they deserve our care and attention. My Administration is spearheading new initiatives to revitalize our national parks and to ensure that they continue to set the conservation standard for the rest of the world. We are working with the Congress to establish a Public Lands Infrastructure Fund, which would use revenues from certain energy production activities to help reduce the backlog of maintenance requirements in the national park system and in other programs administered by the Department of the Interior. My Administration is also enlisting park supporters, through public-private partnerships, to invest in significant upgrades to our Nation's most visible and visited public lands. Improving our trails, roads, bridges, buildings, campgrounds, and services will protect our natural and cultural heritage for many years to come.

Support for our national parks is strong and growing. Thousands of volunteers and partners work with the National Park Service to expand visitation, preserve sites, encourage the appropriate use of resources, and extend the economic benefits of parks into nearby communities. We must continue our efforts to preserve our natural and historic sites in order to maintain the splendor of our country for future generations.

NOW, THEREFORE, I, DONALD J. TRUMP, President of the United States of America, by virtue of the authority vested in me by the Constitution and the laws of the United States, do hereby proclaim April 21 through April 29, 2018, as National Park Week. I encourage all Americans to celebrate by visiting our national parks and learning more about the natural, cultural, and historical heritage that belongs to each and every citizen of the United States of America.

IN WITNESS WHEREOF, I have hereunto set my hand this twentieth day of April, in the year of our Lord two thousand eighteen, and of the Independence of the United States of America the two hundred and forty-second.

[FR Doc. 2018-08822

Filed 4-24-18; 8:45 am]

Billing code 3295-F8-P